DEPARTMENT OF COMMERCE

National Oceanic and Atmospheric Administration

RIN 0648-XE039

Notice of Intent To Conduct Public Scoping and Prepare an Environmental Impact Statement for Five Early Winter Steelhead Hatchery Programs in Puget Sound

AGENCY: National Marine Fisheries Service (NMFS), National Oceanic and Atmospheric Administration (NOAA), Commerce.

ACTION: Notice of intent to prepare an environmental impact statement; request for comments; notice of public workshops.

SUMMARY: Pursuant to the National Environmental Policy Act (NEPA), this notice announces that NMFS intends to obtain information necessary to prepare an Environmental Impact Statement (EIS) for five Hatchery and Genetic Management Plans (HGMPs) for early winter steelhead hatchery programs jointly submitted by the Washington Department of Fish and Wildlife (WDFW), with the Jamestown S'Klallam Tribe, the Lummi Nation, the Nooksack Tribe, the Stillaguamish Tribes, and the Tulalip Tribes (referred to as the co-managers) for NMFS's evaluation and determination under Limit 6 of the Endangered Species Act (ESA) 4(d) Rule for threatened salmon and steelhead. The HGMPs specify the propagation of early-returning (“early”) winter steelhead in the Dungeness, Nooksack, Stillaguamish, Skykomish, and Snoqualmie River watersheds in Washington State.

NMFS provides this notice to advise other agencies and the public of its plans to analyze effects related to the action, and obtain suggestions and information that may be useful to the scope of issues and alternatives to include in the EIS. Two public workshops will be held in July 2015 for this action.

DATES: Written or electronic scoping comments must be received at the appropriate address or email mailbox (see ADDRESSES) no later than 5 p.m. Pacific Time August 13, 2015. The public workshops will be held between July 20, 2015 and July 22, 2015 (see PUBLIC WORKSHOPS).

ADDRESSES: Written comments may be sent by any of the following methods:

• Email to the following address: EWShatcheriesEIS.wcr@noaa.gov with the following identifier in the subject line: Early Winter Steelhead Hatcheries EIS.

• Mail or hand-deliver to NMFS Sustainable Fisheries Division, 510 Desmond Drive SE., Suite 103, Lacey, WA 98503.

• Fax to (360) 753-9517.

Comments received will be available for public inspection, by appointment, during normal business hours at the above address. All Personal Identifying Information (for example, name, address, etc.) voluntarily submitted by the commenter may be publicly accessible. Do not submit Confidential Business Information or otherwise sensitive or protected information.

FOR FURTHER INFORMATION CONTACT: Steve Leider, NMFS, by phone at (360) 753-4650, or email to steve.leider@noaa.gov.

SUPPLEMENTARY INFORMATION:

ESA-Listed Species Covered in This Notice

Steelhead (Oncorhynchus mykiss): threatened, naturally and artificially produced in Puget Sound.

Chinook salmon (O. tshawytscha): threatened, naturally and artificially produced in Puget Sound.

Chum salmon (O. keta): threatened, naturally and artificially produced Hood Canal summer-run.

Bull trout (Salvelinus confluentus): threatened Puget Sound/Washington Coast.

Background

On March 26, 2015 (80 FR 15985), NMFS announced the availability of a draft Environmental Assessment (EA) pursuant to NEPA (42 U.S.C. et seq.), for three HGMPs for early-returning (early winter) steelhead hatchery programs in the Dungeness, Nooksack, and Stillaguamish River basins, submitted to NMFS by the co-managers. A 30-day public comment period was extended to May 4, 2015 for a total comment period of 37 days (80 FR 22973, April 24, 2015). NMFS received and considered comments on the EA and, has subsequently decided to prepare an EIS to evaluate effects on the human environment of the three early winter steelhead hatchery programs in the Dungeness, Nooksack, and Stillaguamish River watersheds in Washington State. In the EIS, NMFS will also evaluate three additional early winter steelhead HGMPs for hatchery programs in the Skykomish and Snoqualmie Rivers in the Snohomish River watershed in Puget Sound. All of the programs would release early winter steelhead that are not included as part of the ESA-listed Puget Sound Steelhead Distinct Population Segment, and that are not native to the watersheds in which they would be released.

NEPA requires Federal agencies to conduct environmental analyses of proposed actions to determine if the actions may affect the human environment. NMFS's action of evaluating the co-managers' HGMPs, pursuant to the limitation on take prohibitions for actions conducted under Limit 6 of the 4(d) Rule for salmon and steelhead promulgated under the ESA, is a major Federal action subject to environmental review under NEPA. Therefore, NMFS is seeking public input on the scope of the required NEPA analysis, including the range of reasonable alternatives, recommendations for relevant analysis methods, and information associated with impacts of the alternatives to the resources listed below or other relevant resources.

NMFS will perform an environmental review of the HGMPs and prepare an EIS that will identify potentially significant direct, indirect, and cumulative impacts on the following resources identified to have a potential for effect from the proposed action:

• Listed and Non-listed Species and their habitats

• Water Quantity

• Socioeconomics

• Environmental Justice

• Cumulative Impacts

NMFS will rigorously explore and objectively evaluate a full range of reasonable alternatives in the EIS, including the proposed action (implementation of the co-managers' HGMPs) and a no-action alternative. Additional alternatives could include the following: (1) A decrease in artificial production of 50 percent, and (2) a change in program type from isolated (i.e., producing hatchery-origin fish that are intended to be reproductively segregated and different from the natural-origin population) to integrated (i.e., producing hatchery-origin fish that are intended to be similar to and part of the natural-origin population) programs that would use native steelhead for broodstock.

For all potentially significant impacts, the EIS will identify measures to avoid, minimize, and mitigate the impacts, where feasible, to a level below significance.

Request for Comments

NMFS provides this notice to: (1) Advise other agencies and the public of its plans to analyze effects related to the action, and (2) obtain suggestions and information that may be useful to the scope of issues and the full range of alternatives to include in the EIS. In addition to considering comments received in response to this notice in developing an EIS, relevant comments received on the 2015 draft EA for three early winter steelhead hatchery programs (80 FR 15985, March 26, 2015), and on the 2014 draft EIS for Puget Sound salmon and steelhead hatcheries (80 FR 15986, March 26, 2015) will also be considered in developing the EIS.

NMFS invites comment from all interested parties to ensure that the full range of issues related to the early winter steelhead HGMPs is identified. Comments should be as specific as possible.

Written comments concerning the proposed action and the environmental review should be directed to NMFS as described above (see ADDRESSES). All comments and materials received, including names and addresses, will become part of the administrative record and may be released to the public.

Public Workshops

Two public workshops will be offered to assist in gathering information on development of the EIS. Those workshops will be held as follows; further information regarding the workshops may be found at http://www.westcoast.fisheries.noaa.gov/hatcheries/salmon_and_steelhead_hatcheries.html.

Monday, July 20, 2015

6 to 8 p.m., Skagit Public Utilities District, Aqua Room, 1415 Freeway Drive, Mt Vernon, Washington

Tuesday, July 21, 2015

6 to 8 p.m., Lynnwood Convention Center, 3711 196th St SW., Lynnwood, Washington

Authority

The environmental review of the early winter steelhead HGMPS will be conducted in accordance with requirements of the NEPA of 1969 as amended (42 U.S.C. 4321 et seq.), NEPA Regulations (40 CFR parts 1500-1508), other appropriate Federal laws and regulations, and policies and procedures of NMFS for compliance with those regulations. This notice is being furnished in accordance with 40 CFR 1501.7 to obtain suggestions and information from other agencies and the public on the scope of issues and alternatives to be addressed in the EIS.

Dated: July 8, 2015.
Angela Somma,
Chief, Endangered Species Division, Office of Protected Resources, National Marine Fisheries Service.

[FR Doc. 2015-17156 Filed 7-13-15; 8:45 am]

BILLING CODE 3510-22-P